COMMITTEE FOR PURCHASE FROM PEOPLE WHO ARE BLIND OR SEVERELY DISABLED

Procurement List; Additions and Deletions

AGENCY: Committee for Purchase From People Who Are Blind or Severely Disabled.

ACTION: Additions to and Deletions from Procurement List.

SUMMARY: This action adds to the Procurement List products and service to be furnished by nonprofit agencies employing persons who are blind or have other severe disabilities, and deletes from the Procurement List services previously furnished by such agencies.

Effective Date: October 15, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On July 21, 2006, the Committee for Purchase From People Who Are Blind or Severely Disabled published notice (71 FR 41415-41417) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Product/NSN: SKILCRAFT Toothpicks—200 ct.

NSN: M.R. 452.

NPA: Winston-Salem Industries for the Blind, Winston-Salem, North Carolina.

Contracting Activity: AAFES, Dallas, Texas.

Product/NSN: Spice Blend, All Purpose Seasoning w/o Salt.

8950-01-E60-9456—2.5 oz.

8950-01-E60-9457—6.75 oz.

8950-01-E60-9458—10 oz.

8950-01-E60-9459—20 oz.

8950-01-E60-9460—28 oz.

Spice Blend, Chili Powder.

8950-01-E60-9461—16 oz.

8950-01-E60-9462—17 oz.

8950-01-E60-9463—18 oz.

8950-01-E60-9464—20 oz.

8950-01-E60-9465—5 lbs.

Spice Blend, Lemon Pepper.

8950-01-E60-9147—6-28 oz poly.

8950-01-E60-9466—26 oz.

8950-01-E60-9467—27 oz.

Spice, Cinnamon.

8950-01-E60-9150—Ground, 6-16 oz poly.

8950-01-E60-9468—Maple Sprinkle, 30 oz.

8950-01-E60-9469—Ground, 15 oz.

8950-01-E60-9470—Ground, 18 oz.

8950-01-E60-9471—Ground, 5 lbs.

8950-01-E60-9472—Stick, whole, 8 oz.

NPA: Continuing Developmental Services, Inc., Fairport, NY.

Contracting Activity: Defense Supply Center Philadelphia, Philadelphia, PA.

Services

Service Type/Location: Grounds Maintenance, Port Isabel Detention Center, 27991 Buena Vista Road, Los Fresnos, Texas.

NPA: Mavagi Enterprises, Inc., San Antonio, Texas.

Contracting Activity: DHS Immigration and Customs Enforcement, Dallas, Texas.

Deletions

On July 21, 2006, the Committee for Purchase From People Who Are Blind or Severely Disabled published notice (70 FR 41417) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Custodial Services, U.S. Border Patrol Station, U.S. Customs House, I-29 at Canadian Border, Pembina, North Dakota.

NPA: The Home Place Corporation, Grand Forks, North Dakota.

Contracting Activity: GSA, PBS Region 8, Denver, Colorado.

Service Type/Location: Parts Sorting, McClellan Air Force Base, Sacramento, California.

NPA: PRIDE Industries, Inc., Roseville, California.

Contracting Activity: Department of the Air Force.

Sheryl D. Kennerly,
Director, Information Management.

[FR Doc. E6-15316 Filed 9-14-06; 8:45 am]

BILLING CODE 6353-01-P